DEPARTMENT OF LABOR

Employment and Training Administration

[TA-W-40,246]

Incoe Corporation, North Plant, Frankfort, MI; Notice of Negative Determination Regarding Application for Reconsideration

By application of January 31, 2002, the petitioners requested administrative reconsideration of the Department's negative determination regarding eligibility for workers and former workers of the subject firm to apply for Trade Adjustment Assistance (TAA). The denial notice was signed on December 17, 2001 and published in the Federal Register on January 11, 2002 (67 FR 66428).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The TAA petition, filed on behalf of workers at Incoe Corporation, North plant, Frankfort, Michigan engaged in the production of plastic injection molds, was denied because the “contributed importantly” group eligibility requirement of section 222(3) of the Trade Act of 1974, as amended, was not met. The “contributed importantly” test is generally demonstrated through a survey of the workers' firm's customers. However, a survey was not conducted since the products produced by the subject plant were shipped to another affiliated domestic facility. The company did not import products like or directly competitive with what the subject plant produced during the relevant period. The investigation further revealed that the dominant factor leading to the closure of the plant was related to a shift in plant production to another domestic affiliated facility.

The petitioner alleges that the workers do not produce plastic injection molds as addressed in the “Negative Determination Regarding Eligibility To Apply for Workers Adjustment Assistance”.

A review of the initial investigation indicates that the workers were engaged in activities related to the production of plastic injection molding machine tooling for injection molding systems (injection molding components). The TAA decision was based on the correct products produced by the subject firm. The Department inadvertently referenced the wrong product in the decision.

The petitioner further alleges that a representative from the corporate office was sent to a foreign source to compare the manufacturing processes and prices of the foreign sources products which were like or directly competitive with the subject firm's products. The petitioners indicated that the subject firm exported the product to the foreign source, which in turn sold the product back to the subject firm's only customer (affiliated with the subject firm) in the United States.

The comparison of manufacturing processes and price from a foreign source is not relevant to the TAA investigation that was filed on behalf of workers producing plastic injection molding machine tooling for injection molding systems (injection molding components). In reference to the foreign source shipping products like or directly competitive with what the subject firm produced, the company reported no imports of products like or directly competitive with what the subject plant produced (including the affiliated customer) during the relevant period.

Conclusion

After review of the application and investigative findings, I conclude that there has been no error or misinterpretation of the law or of the facts which would justify reconsideration of the Department of Labor's prior decisions. Accordingly, the application is denied.

Signed in Washington, DC, this 28th day of March, 2002.
Edward A. Tomchick,
Director, Division of Trade Adjustment Assistance.

[FR Doc. 02-9339 Filed 4-16-02; 8:45 am]

BILLING CODE 4510-30-M